DEPARTMENT OF LABOR

Employment and Training Administration

[TA-W-82,339]

Mondelez Global LLC, Business Services Center, Including On-Site Leased Workers From Abacus Service Corporation, Advantech Solutions, American Cybersystems, Inc., Collabera, Hewlett-Packard, Kelly Services, Kforce, Inc., Lancesoft, Inc., Northbound, LLC, Pitney Bowes, Inc., RCG Information Technology, Inc., Robert Half International, Sunrise Systems, Synectics, Inc. and the Fountain Group Including Workers Whose Wages Were Reported Through Kraft Foods, Inc., San Antonio, TX; Amended Certification Regarding Eligibility To Apply for Worker Adjustment Assistance

In accordance with Section 223 of the Trade Act of 1974, as amended (“Act”), 19 U.S.C. 2273, the Department of Labor (Department) issued a Certification of Eligibility to Apply for Worker Adjustment Assistance on February 20, 2013, applicable to workers of Mondelez Global LLC, Business Services Center, including on-site leased workers from Abacus Service Corporation, American CyberSystems, Inc., Collabera, Kelly Services, Kforce, Inc., Lancesoft, Northbound, LLC, RCG Information Technology, Inc., Robert Half International, Sunrise Systems, Synectics, Inc., and The Fountain Group and workers whose unemployment insurance (UI) wages were reported through Kraft Foods, Inc., San Antonio, Texas. The workers are engaged in activities related to the supply of accounts payable, travel and expense, and administration, including the continuous improvement team.

New information obtained by the Department revealed that workers from several additional leasing agencies are part of the certified worker group at Mondelez Global LLC, Business Services Center, San Antonio, Texas. The leasing agencies are: Advantech Solutions, Hewlett-Packard, and Pitney Bowes, Inc. The leased workers from the aforementioned agencies worked on-site at Mondelez Global LLC, Business Services Center, San Antonio, Texas.

The intent of the Department's certification is to include all leased workers on-site at Mondelez Global LLC, Business Services Center, San Antonio, Texas, who were adversely affected by the subject firm's acquisition of like or directly competitive services from a foreign country. The amended notice applicable to TA-W-82,339 is hereby issued as follows:

“All workers of Mondelez Global LLC, Business Services Center, including on-site leased workers from Abacus Service Corporation, Advantech Solutions, American CyberSystems, Inc., Collabera, Hewlett-Packard, Kelly Services, Kforce, Inc., Lancesoft, Northbound, LLC, Pitney Bowes, Inc., RCG Information Technology, Inc., Robert Half International, Sunrise Systems, Synectics, Inc., and The Fountain Group and workers whose unemployment insurance (UI) wages were reported through Kraft Foods, Inc., San Antonio, Texas, who became totally or partially separated from employment on or after January 11, 2012, through February 20, 2015, and all workers in the group threatened with total or partial separation from employment on the date of certification through two years from the date of certification, are eligible to apply for adjustment assistance under Chapter 2 of Title II of the Trade Act of 1974, as amended.”

Signed at Washington, DC this 3rd day of April, 2013.
Elliott S. Kushner,
Certifying Officer, Office of Trade Adjustment Assistance.

[FR Doc. 2013-08929 Filed 4-16-13; 8:45 am]

BILLING CODE P